DEPARTMENT OF COMMERCE

International Trade Administration

Mission Statement; Solar Energy Trade Mission to India, February 15-19, 2010

AGENCY: Department of Commerce.

ACTION: Amendment.

Mission Description

The United States Department of Commerce, International Trade Administration, U.S. and Foreign Commercial Service (CS), is organizing the second Solar Energy Trade Mission to India from February 15 to 19, 2010. Led by a senior Department of Commerce official, the mission will continue to build on the Department's efforts to open the burgeoning Indian solar market to U.S. firms and to position U.S. companies to seize export opportunities as India gears up to rapidly expand its solar energy capabilities. Ideal trade mission participants will be representatives of leading U.S. manufacturers of solar technology, including utility-scale technologies such as photovoltaic and concentrated solar power, and manufacturers of products such as solar street lighting, solar home lighting, and solar water pumping systems. The mission will also be open to a limited number of representatives of trade associations, councils and groups in the solar energy sector. The mission will visit three cities: New Delhi, Bangalore, and Mumbai, where participants will receive market briefings and meet with key government decision makers and prospective private sector partners during customized, one-on-one meetings.

Commercial Setting

India is facing a critical shortage of energy. Due to its sustained economic growth, the country suffers from an energy deficit, which stands to worsen as India's economy and population continue to grow. As a result of the energy shortage, Indian consumers face frequent periods of power outages, and prices for electricity are high. In addition to the need for more capacity, the Indian government at both state and national levels has begun to recognize the threat posed by global climate change. As such, the Government of India (GOI) acknowledges that some of the country's energy needs must be met with cleaner sources of power. All of these issues have compelled the GOI to move forward with an action plan to address its energy needs.

In 2008, the GOI released its National Action Plan on Climate Change (NAPCC), part of which addressed energy needs and particularly focused on solar energy as an area of development. Concurrent with the development of the NAPCC, three Indian states—Rajasthan, Gujarat, and Karnataka—have progressively launched their own efforts to develop solar projects. Since the NAPCC was initially released, CS India has aggressively worked to facilitate the development of the nascent Indian solar market, focusing on the aforementioned states. In March 2009 the first U.S. Solar Energy Trade Mission to India took place, which brought 14 U.S. companies to India, along with Deputy Assistant Secretarial leadership from the Departments of Commerce and Energy, and a board member from the U.S. Export-Import Bank. The mission successfully introduced U.S. solar energy technology to relevant Indian officials, and, as a result of the mission, U.S. firms have signed memoranda of understanding to develop 5MW solar projects in Rajasthan. Prior to this trade mission Indian officials acknowledged that they were not familiar with U.S. solar technologies, and that they believed European firms had more proven products. The trade mission helped to highlight the strength and cost effectiveness of U.S. technologies—a crucial step for positioning U.S. firms in this market.

As a follow-up to the first trade mission, in July 2009 CS India organized a solar finance roundtable in Mumbai, which brought together key government decision makers from Rajasthan, project finance bankers, and two U.S. energy developers. Lack of project finance options had emerged as a stumbling block to the development of utility-scale solar power projects in Rajasthan. Roundtable participants addressed critical issues such as power purchase agreements, renewable energy purchase obligations, transmission line issues and tariff structures, and the Rajasthan government officials confirmed that they would put the policy mechanisms in place to make the solar projects financially viable.

Building on the positive momentum to date, CS India approached the U.S. Trade and Development Agency to fund an orientation visit to the U.S. by officials from Rajasthan. The visit, which will take place during October 2009, will coincide with Solar Power International, the largest solar industry trade show in the United States. By attending this show the Indian officials will be exposed to the variety and depth of U.S. solar technologies, and they will visit demonstration sites to see firsthand the integration of solar energy into the U.S. power grid.

The second Solar Trade Mission to India will continue to build on the above efforts and will help keep U.S. firms at the forefront of this emerging market. In particular, the mission will continue CS India's extensive efforts to positively influence policy and will allow U.S. manufacturers to weigh in with Indian officials as crucial government decisions are soon to be made that will impact the direction this market will take.

The GOI is poised to release its highly anticipated National Solar Plan, which will outline new government initiatives aimed at developing solar energy projects. While details of this plan are still being finalized, it is expected to mandate at least 20,000MW of solar energy generation by 2020, and up to 200,000MW by 2050, and will offer government funding and incentives toward that end. The plan will also mandate installation of solar rooftop panels for 10,000 government buildings, in addition to installing household rooftop solar units in one million homes by 2020.

Price considerations for solar energy have been and will continue to be an issue, yet some estimates indicate that solar energy prices will reach parity with conventional energy sources in as little as three years. Anticipated price parity, coupled with the expected government incentives, make it even more urgent that U.S. solar firms establish themselves in India right now.

The second Solar Trade Mission to India will expose participants to key officials from the states most ready to move forward on solar projects, as outlined below.

Rajasthan

The state of Rajasthan is deploying a broad, ambitious solar energy development framework. According to studies conducted by the U.S. Department of Energy, Rajasthan receives the second largest amount of solar radiation in the world. State officials have long recognized the viability of solar for their energy needs, and they are finalizing plans to erect numerous utility-scale projects throughout the state. In support of these goals, the state is preparing to formalize the critical government policies that are needed to catapult these projects off the drawing board. Such policies will include: land availability secured by the government; guaranteed assistance with transmission lines and interconnection; and, power purchase agreements ensuring that all power produced by solar projects will be purchased at pre-determined rates. Projects totaling 56MW have been allocated to different developers, including two separate 5MW projects to U.S. developers. In addition, the Asian Development Bank is funding construction of a 50MW solar project in the state, and this project will be open to competitive bidding. The state has a long-term vision to establish itself as a global hub for solar energy production, and it is important that U.S. firms are present as this market moves forward. Opportunities for U.S. exports associated with these projects will include concentrated solar power technologies, photovoltaic equipment, rooftop solar installations, and household solar photovoltaic equipment.

Gujarat

After Rajasthan, the state of Gujarat receives the second largest amount of solar radiation in India. Gujarat state officials are moving quickly to facilitate the development of solar energy projects, and in August 2009 they approved a range of projects totaling 716MW allocated to thirty-four different project developers, four of which are U.S. firms. Because these allocations have recently been made, time is of the essence. Many of the project developers are still in the process of selecting their technical partners, and U.S. firms will lose out to European competitors if they are not here soon to cultivate these partnerships. In support of the above solar efforts, Gujarat will develop the appropriate power purchase agreements and price guarantees, and will guarantee to lay power lines from the solar substations to the main grid. Land is already being set aside for these projects. Gujarat will also mandate that ten percent of all power purchased in the state must be from renewable sources, all of which will help develop the nascent solar industry. Opportunities for U.S. exports associated with these projects will include: concentrated solar power technologies, photovoltaic equipment, rooftop solar installations, and household solar photovoltaic equipment.

Karnataka

The State of Karnataka leads the country for solar applications. Bangalore has the largest deployment of rooftop solar water heaters in the country, generating a daily equivalent of 200 MW, with 60% of the city's household and industrial units using solar water heaters. The Government of Karnataka (through the Karnataka Renewable Energy Development Limited—KREDL) has made roof-top thermal systems mandatory for all new residential/industrial structures and has implemented a Rs 50 (about $1.10) discount (subsidy) for the monthly electric bill from the Bangalore Electric Supply Company. KREDL is also setting up two demonstration projects of 3MW and 5MW in North and South Bangalore for grid-connected solar power systems, which will be India's first grid-connected solar projects. In addition to these measures, the Karnataka state government plans to install solar panels in major state buildings and public utilities. Under the recently-announced solar city project, the state government is planning to install photovoltaic panels with a capacity of 2-5 KW on rooftops of over 10,000 houses, for residential use with the leftover energy to be pumped to the state grid. Moreover, with its thriving semiconductor industry, experts predict that Bangalore will become a solar hub in India. Finally, KREDL just invited more bids from solar technology providers to design, finance, build, operate and maintain solar/hybrid power plants and collect user fees to provide solar energy on a sustainable basis for the requirement of village clusters.

Maharashtra

The state of Maharashtra, home to the city of Mumbai, stands as India's commercial and industrial powerhouse. State officials have set an ambitious renewable energy purchase target of ten percent. Some of this energy will be generated through solar technologies, and the state recently announced its intent to develop a 10MW solar thermal power plant. The GOI also plans to install solar rooftop systems in households and government buildings nationwide, and many firms that will implement this plan are located in Maharashtra, making it an ideal venue to promote U.S. solar rooftop technologies. Export opportunities in Maharashtra include solar thermal systems and rooftop solar energy units.

Mission Goals

The goals of the second Solar Energy Trade Mission to India are to help U.S. solar technology companies initiate or expand their exports to India by providing introductions to industry representatives and potential partners, and by providing networking opportunities, policy discussions with the central and state governments, and current market information.

Mission Scenario

The mission will begin in New Delhi, where participants will meet with officials from the state of Rajasthan and potential private sector partners. Next, the participants will visit Bangalore, where they will meet with energy sector entrepreneurs and officials from the state of Karnataka. The final stop on the mission will be Mumbai, where participants will meet with government and private sector representatives from the states of Gujarat and Maharashtra, as well as leading Mumbai bankers who are familiar with the solar market and interested in providing project finance. The participants will also attend policy briefings by U.S. Embassy officials, market and commercial briefings by the CS, and networking events offering further opportunities to speak with local business and government representatives. U.S. participants will be counseled before and after the mission by CS India staff. Participation in the mission will include the following:

• Pre-travel briefings/webinar on subjects ranging from business practices in India to security;

• Pre-scheduled meetings with potential partners, distributors, end users, or other local industry contacts in New Delhi, Bangalore, and Mumbai;

• Airport transfers in New Delhi, Bangalore, and Mumbai;

• Meetings with Indian government officials; and,

• Participation in networking receptions in New Delhi, Bangalore, and Mumbai.

Proposed Mission Timetable
Sunday, February 14, 2010 | New Delhi
| • Delegates arrive in New Delhi/check-in and rest overnight.
Monday, February 15, 2010 | New Delhi
| • Embassy Briefing.
| • Meetings with Central Government Officials.
| • Meetings with officials from the state of Rajasthan.
| • Business matchmaking sessions.
| • Networking reception.
Tuesday, February 16, 2010 | New Delhi/Bangalore
| • Business matchmaking sessions in New Delhi.
| • Travel to Bangalore.
| • Networking reception in Bangalore.
Wednesday, February 17, 2010 | Bangalore/Mumbai
| • CS Bangalore market briefing.
| • Meetings with officials from the state of Karnataka.
| • Business matchmaking sessions.
| • Late evening travel to Mumbai.
Thursday, February 18, 2010 | Mumbai
| • CS Mumbai market briefing.
| • Meetings with officials from the state of Maharashtra.
| • Meetings with officials from the state of Gujarat.
| • Meetings with project finance bankers.
| • Business matchmaking sessions.
| • Networking reception.
Friday, February 19, 2010 | Mumbai
| • Business matchmaking session ½ day.
| • Departure for the U.S.

Participation Requirements

All persons interested in participating in the Solar Trade Mission to India must complete and submit an application package for consideration by the Department of Commerce. All applicants will be evaluated on their ability to meet certain conditions and best satisfy the selection criteria as outlined below. A minimum of 8 and a maximum of 15 organizations will be selected to participate in the mission from the applicant pool. U.S. companies already doing business in India as well as U.S. companies seeking to enter the Indian market for the first time are encouraged to apply. U.S. trade councils, associations or groups in the solar energy sector may also apply to participate in the mission.

Fees and Expenses

After a company or trade organization has been selected to participate in the mission, a payment to the Department of Commerce in the form of a participation fee is required. The participation fee will be $5,200 for large firms and organizations and $4,500 for a small or medium-sized enterprise (SME) or small organization, which will cover one representative.¹ The fee for each additional firm representative (large firm or SME) is $750. Expenses for travel, lodging, most meals, and incidentals will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria

• Suitability of the applicant's products or services to the Indian market and targeted sector

• Applicant's potential for business in India, including likelihood of U.S. exports resulting from the mission

• Consistency of the applicant's goals and objectives with the stated scope of the mission

• Past or current export activity or ability to initiate and sustain immediate export activities

Any partisan political activities (including political contributions) of an applicant are entirely irrelevant to the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. CS India will work in conjunction with the CS Pacific South Network, which will serve as a key facilitator in establishing strong commercial ties to the U.S. solar industry nationwide. Recruitment for the mission will begin immediately and conclude no later than December 31, 2009. Applications received after December 31, 2009, will be considered only if space and scheduling constraints permit.

Contacts

U.S. Commercial Service India:

Ms. Preetha Nair, U.S. Commercial Service, New Delhi, Tel: 91-11-23472347, E-mail: Preetha.Nair@mail.doc.gov,

Mr. Vaidyanathan Purushothaman, U.S. Commercial Service, Chennai, Tel: 91-44-28574031, E-mail: Vaidyanathan.Purushothaman@mail.doc.gov.

Mr. P. Srinivas, U.S. Commercial Service, Mumbai, Tel: 91-22-22652511, E-mail: P.Srinivas@mail.doc.gov.

U.S. Commercial Service Export Assistance Centers:

Ms. Cynthia Torres, U.S. Commercial Service, Coachella Valley (Indio), Tel: 760-342-1310, E-mail: cynthia.torres@mail.doc.gov.

Mr. Richard Swanson, Pacific South Network Director, Newport Beach, Tel: 949-660-1688, ext. 153, E-mail: Richard.swanson@mail.doc.gov.

Sean Timmins,
Global Trade Programs, Commercial Service Trade Missions Program.

[FR Doc. E9-29557 Filed 12-10-09; 8:45 am]

BILLING CODE 3510-FP-P